DEPARTMENT OF COMMERCE

International Trade Administration

[A-552-801; A-549-820; A-570-832]

Certain Frozen Fish Fillets From the Socialist Republic of Vietnam: Final Results of the Expedited Third Sunset Review of the Antidumping Duty Order; Prestressed Concrete Steel Wire Strand From Thailand: Preliminary Results of Antidumping Duty Administrative Review; and Pure Magnesium From the People's Republic of China: Preliminary Results of Antidumping Duty Administrative Review; 2018-2019; Correction

AGENCY: Enforcement and Compliance, International Trade Administration, Department of Commerce.

SUMMARY: On February 4, 2021, the Department of Commerce (Commerce) inadvertently published three Federal Register notices that had previously been published, and were not intended for republication. This notice serves as a notification of, and correction to, their inadvertent publication.

DATES: Applicable February 19, 2021.

FOR FURTHER INFORMATION CONTACT: Kathryn Wallace, AD/CVD Operations, Enforcement and Compliance, International Trade Administration, U.S. Department of Commerce, 1401 Constitution Avenue NW, Washington, DC 20230; telephone: (202) 482-6251.

SUPPLEMENTARY INFORMATION:

Background

On February 4, 2021, the Department of Commerce (Commerce) inadvertently republished the final results of the third sunset review of the antidumping duty order on certain frozen fish fillets from the Socialist Republic of Vietnam; ¹ the preliminary results of the antidumping duty administrative review of prestressed concrete steel wire strand from Thailand; ² and the preliminary results of the antidumping duty administrative review of pure magnesium from the People's Republic of China.³ The inadvertent republication of these notices does not constitute redetermination of the respective proceedings. This notice serves as a notification of, and correction to, their inadvertent publication.

¹ See Certain Frozen Fish Fillets from the Socialist Republic of Vietnam: Final Results of the Expedited Third Sunset Review of the Antidumping Duty Order, 86 FR 8176 (February 4, 2021); initially published at 85 FR 6500 (February 5, 2020).

² See Prestressed Concrete Steel Wire Strand from Thailand: Preliminary Results of Antidumping Duty Administrative Review; 2018, 86 FR 8177 (February 4, 2021), initially published at 85 FR 6501 (February 5, 2020).

³ See Pure Magnesium from the People's Republic of China: Preliminary Results of Antidumping Duty Administrative Review; 2018-2019, 86 FR 8179 (February 4, 2021), initially published at 85 FR 6509 (February 5, 2020).

Dated: February 12, 2021.
Christian Marsh,
Acting Assistant Secretary for Enforcement and Compliance.

[FR Doc. 2021-03396 Filed 2-18-21; 8:45 am]

BILLING CODE 3510-DS-P